SMALL BUSINESS ADMINISTRATION

13 CFR Ch. I

Semiannual Regulatory Agenda

AGENCY: U.S. Small Business Administration (SBA).

ACTION: Semiannual regulatory agenda.

SUMMARY: This semiannual Regulatory Agenda (Agenda) is a summary of current and projected regulatory and deregulatory actions and completed actions of the Small Business Administration (SBA). This summary information is intended to enable the public to be more aware of, and effectively participate in, SBA's regulatory and deregulatory activities. Accordingly, SBA invites the public to submit comments on any aspect of this Agenda.

FOR FURTHER INFORMATION CONTACT:

General

Please direct general comments or inquiries to Imelda A. Kish, Law Librarian, U.S. Small Business Administration, 409 Third Street SW, Washington, DC 20416, (202) 205-6849, imelda.kish@sba.gov.

Specific

Please direct specific comments and inquiries on individual regulatory activities identified in this Agenda to the individual listed in the summary of the regulation as the point of contact for that regulation.

SUPPLEMENTARY INFORMATION: The Regulatory Flexibility Act (RFA) requires SBA to publish in the Federal Register a semiannual regulatory flexibility agenda describing those Agency rules that are likely to have a significant economic impact on a substantial number of small entities (5 U.S.C. 602). The summary information published in the Federal Register is limited to those rules. Additional information regarding all of the rulemakings SBA expects to consider in the next 12 months is included in the Federal Government's complete Regulatory Agenda, which will be available online at www.reginfo.gov in a format that offers users enhanced ability to obtain information about SBA's rules.

The RFA also requires that SBA periodically initiate a review of its rules under Section 610 to determine whether certain rules should be continued without change, or should be amended or rescinded, to minimize adverse economic impacts on small entities. SBA is currently engaged in this process and is soliciting public comments via Federal Register Notice.

SBA is fully committed to implementing the Administration's regulatory reform policies, as established by Executive Order 13771, Reducing Regulation and Controlling Regulatory Costs (January 30, 2017) and Executive Order 13777, Enforcing the Regulatory Reform Agenda (February 24, 2017). In order to fully implement the goal of these executive orders, SBA seeks feedback from the public in identifying any SBA regulations that affected parties believe impose unnecessary burdens or costs that exceed their benefits, eliminate jobs or inhibit job creation, or are ineffective or outdated.

Jovita Carranza,
Administrator.

Small Business Administration—Proposed Rule Stage
Sequence No. | Title | Regulation Identifier No.
212 | Small Business Development Center Program Revisions | 3245-AE05
213 | Small Business Size Standards; Alternative Size Standard for 7(a), 504, and Disaster Loan Programs | 3245-AG16
214 | Small Business Size Standards: Educational Services; Health Care and Social Assistance; Arts, Entertainment and Recreation; Accommodation and Food Services; Other Services | 3245-AG88
215 | Small Business Size Standards: Agriculture, Forestry, Fishing and Hunting; Mining, Quarrying, and Oil and Gas Extraction; Utilities; Construction | 3245-AG89
216 | Small Business Size Standards: Transportation and Warehousing; Information; Finance and Insurance; Real Estate and Rental and Leasing | 3245-AG90
217 | Small Business Size Standards: Professional, Scientific and Technical Services; Management of Companies and Enterprises; Administrative and Support, Waste Management and Remediation Services | 3245-AG91
218 | Small Business Size Standards: Manufacturing and Industries With Employee Based Size Standards in Other Sectors Except Wholesale Trade and Retail Trade | 3245-AH09
219 | Small Business Size Standards: Wholesale Trade and Retail Trade | 3245-AH10
220 | 8(a) Business Development (Section 610 Review) | 3245-AH19
221 | Government Contracting Programs (Section 610 Review) | 3245-AH20
222 | HUBZone Program (Section 610 Review) | 3245-AH21
223 | Small Business Size Standards: Calculation of Average Annual Receipts in Business Loan, Disaster Loan, and Small Business Investment Company Programs | 3245-AH26
224 | National Defense Authorization Act of 2020, Credit for Lower Tier Subcontracting and Other Amendments | 3245-AH28

Small Business Administration—Final Rule Stage
Sequence No. | Title | Regulation Identifier No.
225 | Small Business Timber Set-Aside Program | 3245-AG69
226 | Small Business Size Standards: Adjustment of Monetary Based Size Standards for Inflation | 3245-AH17

Small Business Administration—Completed Actions
Sequence No. | Title | Regulation Identifier No.
227 | National Defense Authorization Acts of 2016 and 2017, RISE After Disaster Act of 2015, and Other Small Business Government Contracting Amendments | 3245-AG86
228 | Small Business Size Standards: Calculation of Annual Average Receipts | 3245-AH16

SMALL BUSINESS ADMINISTRATION (SBA)

Proposed Rule Stage

212. Small Business Development Center Program Revisions

E.O. 13771 Designation: Deregulatory.

Legal Authority: 15 U.S.C. 634(b)(6); 15 U.S.C. 648

Abstract: This rule proposes to update the Small Business Development Center (SBDC) program regulations by proposing to amend: (1) Procedures for approving applications when a new Lead SBDC center is selected; (2) procedures and requirements regarding findings and disputes resulting from financial exams, programmatic reviews, accreditation reviews, and other SBA oversight activities; (3) requirements for new or renewal applications for SBDC grants, including electronic submission through the approved electronic Government submission facility; (4) procedures regarding the determination to affect suspension, termination or non-renewal of an SBDC's cooperative agreement; and (5) provisions regarding the collection and use of the individual SBDC client data.

Timetable:

Action | Date | FR Cite
ANPRM | 04/02/15 | 80 FR 17708
ANPRM Comment Period End | 06/01/15 |
NPRM | 12/00/20 |

Regulatory Flexibility Analysis Required: Yes.

Agency Contact: Rachel Newman-Karton, Program Manager, Small Business Administration, 409 3rd Street SW, Washington, DC 20416, Phone: 202 619-1816, Email: rachel.newman-karton@sba.gov.

RIN: 3245-AE05

213. Small Business Size Standards; Alternative Size Standard for 7(a), 504, and Disaster Loan Programs

E.O. 13771 Designation: Other.

Legal Authority: Pub. L. 111-240, sec. 1116

Abstract: SBA will propose amendments its size eligibility criteria for Business Loans, certified development company (CDC) loans under title V of the Small Business Investment Act (504) and economic injury disaster loans (EIDL). For the SBA 7(a) Business Loan Program and the 504 program, the amendments will provide an alternative size standard for loan applicants that do not meet the small business size standards for their industries. The Small Business Jobs Act of 2010 (Jobs Act) established alternative size standards that apply to both of these programs until SBA's Administrator establishes other alternative size standards. For the disaster loan program, the amendments will provide an alternative size standard for loan applicants that do not meet the Small Business Size Standard for their industries. SBA loan program alternative size standards do not affect other Federal Government programs, including Federal procurement.

Timetable:

Action | Date | FR Cite
ANPRM | 03/22/18 | 83 FR 12506
ANPRM Comment Period End | 05/21/18 |
NPRM | 12/00/20 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG16

214. Small Business Size Standards: Educational Services; Health Care and Social Assistance; Arts, Entertainment and Recreation; Accommodation and Food Services; Other Services

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate size standards for all industries in North American Industry Classification System (NAICS) Sector 61 (Educational Services), Sector 62 (Health Care and Social Assistance), Sector 71 (Arts, Entertainment and Recreation), Sector 72 (Accommodation and Food Services), and Sector 81 (Other Services) and make necessary adjustments to size standards in these sectors. This is one of a series of proposed rules that will examine groups of NAICS sectors. SBA will apply its Size Standards Methodology to this proposed rule.

Timetable:

Action | Date | FR Cite
NPRM | 10/00/20 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG88

215. Small Business Size Standards: Agriculture, Forestry, Fishing and Hunting; Mining, Quarrying, and Oil and Gas Extraction; Utilities; Construction

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate each industry that has a receipts-based standard in North American Industry Classification System (NAICS) Sector 11 (Agriculture, Forestry, Fishing and Hunting), Sector 21 (Mining, Quarrying, and Oil and Gas Extraction), Sector 22 (Utilities), and Sector 23 (Construction), and make necessary adjustments to size standards in these sectors. This is one of a series of proposed rules that will examine groups of NAICS sectors. SBA will apply its Size Standards Methodology to this proposed rule.

Timetable:

Action | Date | FR Cite
NPRM | 07/00/20 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG89

216. Small Business Size Standards: Transportation and Warehousing; Information; Finance and Insurance; Real Estate and Rental and Leasing

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate each industry that has a receipts-based standard in North American Industry Classification System (NAICS) Sector 48-49 (Transportation and Warehousing), Sector 51 (Information), Sector 52 (Finance and Insurance), and Sector 53 (Real Estate and Rental and Leasing) and make necessary adjustments to size standards in these sectors. This is one of a series of proposed rules that will examine groups of NAICS sectors. SBA will apply its Size Standards Methodology to this proposed rule.

Timetable:

Action | Date | FR Cite
NPRM | 08/00/20 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG90

217. Small Business Size Standards: Professional, Scientific and Technical Services; Management of Companies and Enterprises; Administrative and Support, Waste Management and Remediation Services

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate each industry that has a receipts-based standard in North American Industry Classification System (NAICS) Sector 54 (Professional, Scientific and Technical Services), Sector 55 (Management of Companies and Enterprises), and Sector 56 (Administrative and Support, Waste Management and Remediation Services) and make necessary adjustments to size standards in these sectors. This is one of a series of proposed rules that will examine groups of NAICS sectors. SBA will apply its Size Standards Methodology to this proposed rule.

Timetable:

Action | Date | FR Cite
NPRM | 09/00/20 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG91

218. Small Business Size Standards: Manufacturing and Industries With Employee Based Size Standards in Other Sectors Except Wholesale Trade and Retail Trade

E.O. 13771 Designation: Other.

Legal Authority: 15 U.S.C. 632(a)

Abstract: The Small Business Jobs Act of 2010 (Jobs Act) requires SBA to conduct every five years a detailed review of all size standards and to make appropriate adjustments to reflect market conditions. As part of the second 5-year review of size standards under the Jobs Act, in this proposed rule, SBA will evaluate all industries in North American Industry Classification System (NAICS) Sector 31-33 (Manufacturing) and industries with employee based size standards in other sectors except Wholesale Trade and Retail Trade and make necessary adjustments to their size standards. This is one of a series of proposed rules that will examine groups of NAICS sectors. SBA will apply its revised Size Standards Methodology, which is available on its website at http://www.sba.gov/size, to this proposed rule.

Timetable:

Action | Date | FR Cite
NPRM | 12/00/20 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AH09

219. Small Business Size Standards: Wholesale Trade and Retail Trade

E.O. 13771 Designation: Other.

Legal Authority: 15 U.S.C. 632(a)

Abstract: The Small Business Jobs Act of 2010 (Jobs Act) requires SBA to conduct every five years a detailed review of all size standards and to make appropriate adjustments to reflect market conditions. As part of the second 5-year review of size standards under the Jobs Act, in this proposed rule, SBA will evaluate all industries in North American Industry Classification System (NAICS) Sector 42 (Wholesale Trade) and Sector 44-45 (Retail Trade) and make necessary adjustments to their size standards. This is one of a series of proposed rules that will examine groups of NAICS sectors. SBA will apply its revised Size Standards Methodology, which is available on its website at http://www.sba.gov/size, to this proposed rule.

Timetable:

Action | Date | FR Cite
NPRM | 01/00/21 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AH10

220. 8(a) Business Development (Section 610 Review)

E.O. 13771 Designation: Other.

Legal Authority: 15 U.S.C. 637

Abstract: Under part 124, 8(a) Business Development/Small Disadvantaged Business Status Determinations, SBA has promulgated several rules that the Agency certified would have a significant economic impact on a substantial number of small entities within the meaning of the Regulatory Flexibility Act. These rules established eligibility requirements for participation in the 8(a) programs and application, certification, and protest procedures, among other things. SBA is now initiating a review of these rules under section 610 of the Regulatory Flexibility Act to determine if the rules should be continued without change, or should be amended or rescinded, to minimize adverse economic impacts on small entities. In the course of the review, SBA will consider the following factors: (1) The continued need for the rule; (2) the comments received concerning the rule; (3) the complexity of the rule; (4) the extent to which the rule overlaps, duplicates, or conflicts with Federal, State, or local government rules; and (5) the degree to which technology, economic conditions, or other factors have changed in the area affected by the rule. SBA will solicit comments. Comments may be submitted through http://www.regulations.gov/ referring to RIN 3245-AH19.

Timetable:

Action | Date | FR Cite
Begin Review | 04/28/20 | 85 FR 23487
Comment Period End | 07/27/20
End Review | 10/00/20

Regulatory Flexibility Analysis Required: No.

Agency Contact: Brenda J. Fernandez, Analyst, Office of Policy, Planning and Liasion, Small Business Administration, 409 Third Street SW, Washington, DC 20416, Phone: 202 205-7337, Email: brenda.fernandez@sba.gov.

RIN: 3245-AH19

221. Government Contracting Programs (Section 610 Review)

E.O. 13771 Designation: Other.

Legal Authority: Regulatory Flexibility Act, 5 U.S.C. 610; 15 U.S.C. 634; 15 U.S.C. 637; 15 U.S.C. 644

Abstract: Under part 125, Government Contracting Programs, SBA has promulgated several rules that the Agency certified would have a significant economic impact on a substantial number of small entities within the meaning of the Regulatory Flexibility Act. These rules established requirements for participation in SBA's government contracting programs, contracting provisions, and protest procedures, among other things. SBA is now initiating a review of these rules under section 610 of the Regulatory Flexibility Act to determine if the rules should be continued without change, or should be amended or rescinded, to minimize adverse economic impacts on small entities. In the course of the review, SBA will consider the following factors: (1) The continued need for the rule; (2) the comments received concerning the rule; (3) the complexity of the rule; (4) the extent to which the rule overlaps, duplicates, or conflicts with Federal, State, or local government rules; and (5) the degree to which technology, economic conditions, or other factors have changed in the area affected by the rule. SBA will solicit comments. Comments may be submitted through www.regulations.gov, referring to RIN 3245-AH20.

Timetable:

Action | Date | FR Cite
Begin Review | 04/28/20 | 85 FR 23487
Comment Period End | 07/27/20
End Review | 10/00/20

Regulatory Flexibility Analysis Required: No.

Agency Contact: Brenda J. Fernandez, Analyst, Office of Policy, Planning and Liasion, Small Business Administration, 409 Third Street SW, Washington, DC 20416, Phone: 202 205-7337, Email: brenda.fernandez@sba.gov.

RIN: 3245-AH20

222. HUBZone Program (Section 610 Review)

E.O. 13771 Designation: Other.

Legal Authority: Regulatory Flexibility Act, 5 U.S.C. 610; 15 U.S.C. 632 ; 15 U.S.C. 657a

Abstract: Under part 126, HUBZone Program, SBA has promulgated several rules that the Agency certified would have a significant economic impact on a substantial number of small entities within the meaning of the Regulatory Flexibility Act. These rules established eligibility requirements for qualified HUBZone small business concerns, procedures for certification program examinations and protests, and provisions relating to HUBZone contracts, among other things. SBA is now initiating a review of these rules under section 610 of the Regulatory Flexibility Act to determine if the rules should be amended or rescinded to minimize adverse economic impacts on small entities. In the course of the review, SBA will consider the following factors: (1) The continued need for the rule; (2) the comments received concerning the rule; (3) the complexity of the rule; (4) the extent to which the rule overlaps, duplicates, or conflicts with Federal, State, or local government rules; and (5) the degree to which technology, economic conditions, or other factors have changed in the area affected by the rule. SBA will solicit comments. Comments may be submitted through http://www.regulations.gov/ referring to RIN 3245-AH21.

Timetable:

Action | Date | FR Cite
Begin Review | 04/28/20 | 85 FR 23487
Comment Period End | 07/27/20
End Review | 10/00/20

Regulatory Flexibility Analysis Required: No.

Agency Contact: Brenda J. Fernandez, Analyst, Office of Policy, Planning and Liasion, Small Business Administration, 409 Third Street SW, Washington, DC 20416, Phone: 202 205-7337, Email: brenda.fernandez@sba.gov.

RIN: 3245-AH21

223. • Small Business Size Standards: Calculation of Average Annual Receipts in Business Loan, Disaster Loan, and Small Business Investment Company Programs

E.O. 13771 Designation: Not subject to, not significant.

Legal Authority: 15 U.S.C. 632(a)(2); Pub. L. 115-324

Abstract: The Small Business Runway Extension Act, Public Law 115-324, amended the Small Business Act to provide for calculation of average annual receipts using a 5-year average, rather than the prior 3-year average, in defined circumstances. For firms subject to SBA's receipt-based size standards (generally, service-industry, construction, and agricultural firms), a lengthened averaging period permits firms with increasing revenues to stay eligible for small business benefits for longer. In RIN 3245-AH16, SBA implemented the Small Business Runway Extension Act in programs other than SBA's loan programs—including SBA's procurement programs—and SBA issued its final rule in that first rulemaking on December 5, 2019 (84 FR 66561). This second rulemaking would consider how to address the Small Business Runway Extension Act in SBA's business loan, disaster loan, and SBIC programs.

Timetable:

Action | Date | FR Cite
NPRM | 06/00/20

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AH26

224. • National Defense Authorization Act of 2020, Credit for Lower Tier Subcontracting and Other Amendments

E.O. 13771 Designation: Other.

Legal Authority: Pub. L. 116-92

Abstract: Section 870 of the National Defense Authorization Act of 2020 (NDAA 2020) made a change that will require SBA to amend its regulations. Specifically, the language of NDAA 2020 requires SBA to alter the method and means of accounting for lower tier small business subcontracting. This proposed rule may also contain several smaller changes that might be necessary to implement this provision and other provisions in NDAA 2020.

Timetable:

Action | Date | FR Cite
NPRM | 06/00/20

Regulatory Flexibility Analysis Required: Yes.

Agency Contact: Brenda J. Fernandez, Analyst, Office of Policy, Planning and Liasion, Small Business Administration, 409 Third Street SW, Washington, DC 20416, Phone: 202 205-7337, Email: brenda.fernandez@sba.gov.

RIN: 3245-AH28

SMALL BUSINESS ADMINISTRATION (SBA)

Final Rule Stage

225. Small Business Timber Set-Aside Program

E.O. 13771 Designation: Regulatory.

Legal Authority: 15 U.S.C. 631; 15 U.S.C. 644(a)

Abstract: The U.S. Small Business Administration (SBA or Agency) is amending its Small Business Timber Set-Aside Program (the Program) regulations. The Small Business Timber Set-Aside Program is rooted in the Small Business Act, which tasked SBA with ensuring that small businesses receive a fair proportion of the total sales of government property. Accordingly, the Program requires Timber sales to be set aside for small business when small business participation falls below a certain amount. SBA considered comments received during the Advance Notice of Proposed Rulemaking and Notice of Proposed Rulemaking processes, including on issues such as, but not limited to, whether the saw timber volume purchased through stewardship timber contracts should be included in calculations, and whether the appraisal point used in set-aside sales should be the nearest small business mill. In addition, SBA is considering data from the timber industry to help evaluate the current program and economic impact of potential changes.

Timetable:

Action | Date | FR Cite
ANPRM | 03/25/15 | 80 FR 15697
ANPRM Comment Period End | 05/26/15
NPRM | 09/27/16 | 81 FR 66199
NPRM Comment Period End | 11/28/16
Final Rule | 08/00/20

Regulatory Flexibility Analysis Required: Yes.

Agency Contact: David W. Loines, Director, Office of Government Contracting, Small Business Administration, 409 Third Street SW, Washington, DC 20416, Phone: 202 431-0472, Email: david.loines@sba.gov.

RIN: 3245-AG69

226. Small Business Size Standards: Adjustment of Monetary Based Size Standards for Inflation

E.O. 13771 Designation: Deregulatory.

Legal Authority: 15 U.S.C. 632(a)

Abstract: In this final rule, the U.S. Small Business Administration (SBA or Agency) adjusts all monetary based industry size standards (i.e., receipts, assets, net worth, and net income) for inflation since the last adjustment in 2014. In accordance with its regulations in 13 CFR 121.102(c), SBA is required to review the effects of inflation on its monetary standards at least once every five years and adjust them, if necessary. In addition, the Small Business Jobs Act of 2010 (Jobs Act) also requires SBA to conduct every five years a detailed review of all size standards and to make appropriate adjustments to reflect market conditions. This action will restore the small business eligibility of businesses that have lost that status due to inflation.

Timetable:

Action | Date | FR Cite
Interim Final Rule | 07/18/19 | 84 FR 34261
Interim Final Rule Effective | 08/19/19
Interim Final Rule Comment Period End | 09/16/19
Final Action | 06/00/20

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AH17

SMALL BUSINESS ADMINISTRATION (SBA)

Completed Actions

227. National Defense Authorization Acts of 2016 and 2017, Rise After Disaster Act of 2015, and Other Small Business Government Contracting Amendments

E.O. 13771 Designation: Regulatory.

Legal Authority: 15 U.S.C. 637(d)(17); Pub. L. 114-328, sec. 1811, sec. 1821; Pub. L. 114-92, sec. 863; Pub. L. 114-88, sec. 2108

Abstract: Section 1811 of the of the National Defense Authorization Act (NDAA) for Fiscal Year 2017, Public Law 114-328, December 23, 2016, (NDAA) of 2017 limits the scope of review of Procurement Center Representatives for certain Department of Defense procurements performed outside of the United States. Section 1821 of the NDAA of 2017 establishes that failure to act in good faith in providing timely subcontracting reports shall be considered a material breach of the contract. Section 863 of the NDAA for FY 2016, Public Law 114-92, November 25, 2015, establishes procedures for the publication of acquisition strategies if the acquisition involves consolidation or substantial bundling. This rule also addresses changes requested by industry or other agencies, including those pertaining to exclusions from calculating compliance with the limitations on subcontracting, an agency's ability to set aside orders under set-aside contracts, and a contracting officer's authority to request reports on a prime contractor's compliance with the limitations on subcontracting. Section 2108 of Public Law 114-88 provides agencies with double credit when they award to a local small business in a disaster area.

Completed:

Reason | Date | FR Cite
Final Rule | 11/29/19 | 84 FR 65647
Final Rule Effective | 12/30/19

Regulatory Flexibility Analysis Required: Yes.

Agency Contact: Khem Raj Sharma, Phone: 202 205-7189, Fax: 202 205-6390, Email: khem.sharma@sba.gov.

RIN: 3245-AG86

228. Small Business Size Standards: Calculation of Annual Average Receipts

E.O. 13771 Designation: Other.

Legal Authority: 15 U.S.C. 632(a); Pub. L. 115-32

Abstract: On December 17, 2018, the President signed the Small Business Runway Extension Act (Pub. L. 115-32), which amended section 3(a)(2)(C)(ii)(II) of the Small Business Act (15 U.S.C. 632(a)(2)(C)(ii)(II)) by changing calculating average annual receipts for size standard purposes. This rulemaking is to implement the new law by changing the period for calculating annual average revenue receipts for receipts based size standards from three (3) years to five (5) years in 13 CFR 121.104.

The Small Business Act (15 U.S.C. 632(a)) delegates to SBA's Administrator the responsibility for establishing, reviewing, and updating small business definitions, commonly referred to as size standards. The Small Business Runway Extension Act amended the Small Business Act, changing the period for calculating average annual receipts from three (3) years to five (5) years.

Completed:

Reason | Date | FR Cite
Final Rule | 12/05/19 | 84 FR 66561
Final Rule Effective | 01/06/20

Regulatory Flexibility Analysis Required: Yes.

Agency Contact: Khem Raj Sharma, Phone: 202 205-7189, Fax: 202 205-6390, Email: khem.sharma@sba.gov.

RIN: 3245-AH16

[FR Doc. 2020-17081 Filed 8-25-20; 8:45 am]

BILLING CODE 8026-03-P